DEPARTMENT OF STATE

[Public Notice 4056]

Bureau of Educational and Cultural Affairs Request for Grant Proposals: Educational Advising in Mexico City

SUMMARY: The Educational Information and Resources Branch of the Bureau of Educational and Cultural Affairs (ECA) announces an open competition to conduct educational advising in Mexico City about post-secondary educational opportunities in the U.S. Public and private non-profit organizations meeting the provisions described in Internal Revenue Code section 26 U.S.C. 501(c)(3) may submit proposals for administering educational advising activities in Mexico City, Mexico. The educational advising effort in Mexico City would be part of the network of over 400 Department of State-affiliated advising centers worldwide. These centers provide comprehensive and unbiased information and guidance to all interested students and scholars about accredited study opportunities in the U.S.

Program Information

Overview

The size of the university population in Mexico City and its proximity to the U.S. make it a critical location for providing accurate, unbiased information about how to gain access to educational opportunities in the U.S. Services provided by the center must include group and/or individual advising informational sessions. The advising center should provide accurate information and advising on the following topics: U.S. colleges, universities, and other accredited higher education institutions; the application process to U.S. universities; majors and fields of study; testing requirements; life in the U.S.; scholarship programs and financial aid; and pre-departure orientation. Advisers will be eligible for training opportunities sponsored by the Bureau, which will also provide a limited selection of reference books and materials to the center.

The proposal should describe in detail the center's location, facilities (including the size and capacity of its public spaces) and hours of operation, staffing pattern (including percentage of time each employee will devote to advising activities, and a description of their functions and responsibilities), an estimated budget for the office, and information delineating the services that will be provided by the center. The center should be capable of serving approximately 4,000 or more client inquiries per month, including visits, emails, faxes, and phone calls. The proposal should also include a description of what methods the center and its headquarters or sponsoring office will pursue to find additional sources of funding to supplement ECA funding for operating costs.

The proposal should also include information about any websites that will be developed to support the overall educational advising effort in Mexico.

In addition, the following elements should be addressed in the proposal:

Outreach

The center is encouraged to reach a wider and more diverse audience by organizing lectures and events outside the center. These outreach activities should provide general information about study opportunities in the U.S. and about the additional services and resources that may be obtained by visiting the advising center. Proposals should include outreach programs for the center and a detailed description of activities along with a proposed schedule of visits. Outreach activities should include emphasis on reaching diverse and younger (secondary school age) populations.

Statistics

The center must submit monthly statistics on the numbers of clients served to the Mexico, Central American, and Caribbean (MCAC) Regional Educational Advising Coordinator (REAC). The statistics should track visitors to the center, phone calls, faxes, letters, emails, and website hits. The center must also be responsive to special requests for information from the MCAC REAC or the Bureau's Educational Information and Resources Branch. The proposal should also explain how the center will work with the Public Affairs and consular sections of the U.S. Embassy in Mexico City to collect information on the usage of the center from applicants for student visas.

Fund-Raising/Cost Defrayment

The proposal should explain what measures the advising center will take to generate income and to reduce operating costs. A general introduction to study opportunities in the U.S. and access to basic resources must be available to all interested persons free of charge. To help cover the costs of operation, the center may charge a fee for specialized services (such as individual advising or test preparation materials), that is reasonable by local standards to keep services accessible to the majority of the population. Examples of cost-defrayment strategies which centers are encouraged to implement include using volunteers and charging for photocopying. The proposal should clearly indicate how savings/income will be applied to the operating costs of the advising center.

Coordination and Communication

The Mexico City educational advising center should help to coordinate major events such as adviser training workshops and advising fairs with other educational advising centers in the region to prevent overlap and provide visiting representatives of U.S. institutions the opportunity to participate in multiple advising fairs on the same trip.

The center should participate in appropriate listservs and maintain contact with other educational advisers in MCAC and other regions.

Professional Standards, Guidelines and Development

Educational advisers should adhere to the OSEAS Standards of Ethical Conduct adopted by NAFSA: Association of International Educators.

Guidelines

Pending availability of funds, the period of this grant is October 1, 2002 to September 30, 2003. Final awards cannot be made until funds have been appropriated by Congress, allocated and committed through internal ECA Bureau procedures.

Programs must comply with J-1 visa regulations. Please refer to Solicitation Package for further information.

Budget Guidelines

The Bureau anticipates awarding one grant in the amount of $70,000 to support program and administrative costs required to implement this program. The Bureau encourages applicants to provide maximum levels of cost-sharing and funding from private sources in support of its programs. Grants awarded to eligible organizations with less than four years of experience in conducting international exchange programs will be limited to $60,000. Applicants must submit a comprehensive budget for the entire program, not to exceed $70,000. There must be a summary budget as well as breakdowns reflecting both administrative and program budgets.

Allowable costs for the program include the following:

(1) Salaries and benefits

(2) Office supplies and expenses, including rent, communications, postage and shipping

(3) Outreach and publicity costs

(4) Indirect costs

Please refer to the Solicitation Package for complete budget guidelines and formatting instructions.

Announcement Title and Number

All correspondence with the Bureau concerning this RFGP should reference the above title and number ECA/A/S/A-03-03.

FOR FURTHER INFORMATION CONTACT: The Educational Information and Resources Branch, ECA/A/S/A, room 349 U.S. Department of State, 301 4th Street, SW., Washington, DC 20547, telephone (202) 619-5434, fax (202) 401-1433, ssheehan@pd.state.gov to request a Solicitation Package. The Solicitation Package contains detailed award criteria, required application forms, specific budget instructions, and standard guidelines for proposal preparation. Please specify Bureau Program Officer Sharen Sheehan on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs. Please read all information before downloading.

Deadline for Proposals

All proposal copies must be received at the Bureau of Educational and Cultural Affairs by 5 p.m. Washington, DC time on Thursday, August 1, 2002. Faxed documents will not be accepted at any time. Documents postmarked the due date but received on a later date will not be accepted. Each applicant must ensure that the proposals are received by the above deadline.

Applicants must follow all instructions in the Solicitation Package. The original and 6 copies of the application should be sent to: U.S. Department of State, SA-44, Bureau of Educational and Cultural Affairs, Ref.: ECA/A/S/A-03-03, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs Section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Plan should adhere to the program overview and guidelines described above.

2. Ability to achieve program objectives: Objectives should be reasonable, feasible, and flexible. Proposals should clearly demonstrate how the institution will meet the program's objectives and plan.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grant Staff. The Bureau will consider the past performance of prior recipients and the demonstrated potential of new applicants.

7. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

8. Cost-effectiveness: The overhead and administrative components of the proposal should be kept as low as possible. All other items should be necessary and appropriate.

9. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 20, 2002.
Rick A. Ruth,
Principal Deputy Assistant Secretary, Bureau of Educational and Cultural Affairs, Department of State.

[FR Doc. 02-16155 Filed 6-26-02; 8:45 am]

BILLING CODE 4710-05-P